DEPARTMENT OF COMMERCE

International Trade Administration

[C-489-823]

Welded Line Pipe From the Republic of Turkey: Final Results of Countervailing Duty Administrative Review; 2015

AGENCY: Enforcement and Compliance, International Trade Administration, Department of Commerce.

SUMMARY: The Department of Commerce (Commerce) determines that Borusan Istikbal Ticaret and Borusan Mannesmann Boru Sanayi ve Ticaret A.S. (collectively, Borusan), an exporter/producer of welded line pipe from the Republic of Turkey (Turkey), received countervailable subsidies during the period of review (POR) March 20, 2015, through December 31, 2015.

DATES: Applicable July 19, 2018.

FOR FURTHER INFORMATION CONTACT: Whitley Herndon and Andrew Medley, AD/CVD Operations, Office II, Enforcement and Compliance, International Trade Administration, U.S. Department of Commerce, 1401 Constitution Avenue NW, Washington, DC 20230; telephone: 202-482-6274 and 202-482-4987, respectively.

SUPPLEMENTARY INFORMATION:

Background

Commerce published the Preliminary Results of this administrative review in the Federal Register on January 10, 2018.¹ We invited interested parties to comment on the Preliminary Results. On January 23, 2018, Commerce exercised its discretion to toll all deadlines affected by the closure of the Federal Government from January 20 through 22, 2018.² On February 12, 2018, we received timely case briefs from the Government of Turkey and from Borusan. On May 2, 2018, Commerce postponed the final results of review until July 12, 2018.³

¹ See Welded Line Pipe from the Republic of Turkey: Preliminary Results of Countervailing Duty Administrative Review; 2015, 83 FR 1237 (January 10, 2018) (Preliminary Results), and accompanying Preliminary Decision Memorandum (PDM).

² See Memorandum, “Deadlines Affected by the Shutdown of the Federal Government,” dated January 23, 2018. All deadlines in this segment of the proceeding have been extended by three days.

³ See Memorandum, “Welded Line Pipe from Turkey: Extension of Deadline for the Final Results of 2015 Countervailing Duty Administrative Review,” dated May 2, 2018.

Scope of the Order

The merchandise covered by the order is welded line pipe, which is carbon and alloy steel pipe of a kind used for oil or gas pipelines, not more than 24 inches in nominal outside diameter. A full description of the scope of the order is contained in the Issues and Decision Memorandum, which is hereby adopted by this notice.⁴

⁴ See Memorandum, “Decision Memorandum for the Final Results of 2015 Countervailing Duty Administrative Review: Welded Line Pipe from Turkey,” dated concurrently with this notice (Issues and Decision Memorandum).

Analysis of Comments Received

All issues raised in interested parties' briefs are addressed in the Issues and Decision Memorandum accompanying this notice. A list of the issues raised by interested parties and to which we responded in the Issues and Decision Memorandum is provided in the Appendix to this notice. The Issues and Decision Memorandum is a public document and is on file electronically via Enforcement and Compliance's Antidumping and Countervailing Duty Centralized Electronic Service System (ACCESS). ACCESS is available to registered users at https://access.trade.gov and in the Central Records Unit, room B8024 of the main Department of Commerce building. In addition, a complete version of the Issues and Decision Memorandum can be accessed directly at http://enforcement.trade.gov/frn/. The signed and electronic versions of the Issues and Decision Memorandum are identical in content.

Changes Since the Preliminary Results

We made no changes to our subsidy rate calculation.

Methodology

Commerce conducted this review in accordance with section 751(a)(1)(A) of the Tariff Act of 1930, as amended (the Act). For each of the subsidy programs found to be countervailable, we find that there is a subsidy, i.e., a financial contribution from a government or public entity that gives rise to a benefit to the recipient, and that the subsidy is specific.⁵ For a full description of the methodology underlying all of Commerce's conclusions, see the Issues and Decision Memorandum.

⁵ See sections 771(5)(B) and (D) of the Act regarding financial contribution; section 771(5)(E) of the Act regarding benefit; and section 771(5A) of the Act regarding specificity.

Final Results of Administrative Review

In accordance with section 777A(e) of the Act and 19 CFR 351.221(b)(5), we determine the total net countervailable subsidy rate for the period January 1, 2015, to December 31, 2015, to be:

Company | Subsidy rate (percent)
Borusan Istikbal Ticaret and Borusan Mannesmann Boru Sanayi ve Ticaret A.S.⁶ | 0.78 ad valorem.

Assessment Rates

In accordance with 19 CFR 351.212(b)(2), Commerce intends to issue appropriate instructions to U.S. Customs and Border Protection (CBP) 15 days after the date of publication of the final results of this review. Commerce will instruct CBP to liquidate shipments of subject merchandise produced and/or exported by the company listed above, entered, or withdrawn from warehouse, for consumption, from March 20, 2015, through December 31, 2015, at the ad valorem rate listed above.

⁶ For the Borusan Companies, we initiated on the following: Borusan Istikbal Ticaret (Istikbal) and Borusan Mannesmann Boru Sanayi ve Ticaret A.S. (BMB). As explained in the PDM, we found Istikbal and BMB to be cross-owned under Borusan Holding, A.S. No party has provided argument to the contrary; thus, for these final results, we continue to find all three companies to be cross-owned, though only BMB received countervailable subsidies in this review period.

Cash Deposit Requirements

Commerce also intends to instruct CBP to collect cash deposits of estimated countervailing duties in the amount shown above for Borusan, on shipments of subject merchandise entered, or withdrawn from warehouse, for consumption on or after the date of publication of the final results of this review. For all non-reviewed firms, Commerce will instruct CBP to continue to collect cash deposits at the most recent company-specific or all-others rate applicable to the company, as appropriate. Accordingly, the cash deposit requirements that will be applied to companies covered by this order, but not examined in this administrative review, are those established in the most recently completed segment of the proceeding for each company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These final results are issued and published in accordance with sections 751(a)(1) and 777(i)(1) of the Act and 19 CFR 351.221(b)(5).

Dated: July 12, 2018.
Gary Taverman,
Deputy Assistant Secretary for Antidumping and Countervailing Duty Operations, performing the non-exclusive functions and duties of the Assistant Secretary for Enforcement and Compliance.

Appendix

List of Topics Discussed in the Issues and Decision Memorandum

I. Summary

II. Background

III. Scope of the Order

IV. Subsidies Valuation

A. Allocation Period

B. Attribution of Subsides

C. Benchmark Interest Rates

V. Programs Determined To Be Countervailable

VI. Programs Determined Not To Be Used During the POR

VII. Analysis of Comments

Comment 1: Treatment of the Investment Encouragement Program (IEP): Customs and Value Added Tax (VAT) Exemption Program

Comment 2: Whether To Include Borusan's Exchange Variation Income in the Total Value of Sales and Total Value of Export Sales

VIII. Recommendation

[FR Doc. 2018-15435 Filed 7-18-18; 8:45 am]

BILLING CODE 3510-DS-P